DEPARTMENT OF ENERGY

Federal Energy Regulatory Commission

Combined Notice of Filings #1

Take notice that the Commission received the following electric rate filings:

Docket Numbers: ER10-2487-005; ER15-2380-003.

Applicants: Pacific Summit Energy LLC, Willey Battery Utility, LLC.

Description: Notice of Change in Status of Pacific Summit Energy LLC, et al.

Filed Date: 4/1/19.

Accession Number: 20190401-5685.

Comments Due: 5 p.m. ET 4/22/19.

Docket Numbers: ER18-552-002.

Applicants: Clean Energy Future—Lordstown, LLC.

Description: Notice of Non-Material Change in Status of Clean Energy Future—Lordstown, LLC.

Filed Date: 4/1/19.

Accession Number: 20190401-5683.

Comments Due: 5 p.m. ET 4/22/19.

Docket Numbers: ER19-1420-001.

Applicants: California Independent System Operator Corporation.

Description: Tariff Amendment: 2019-04-02 DTBAOA with Gridforce—Expedite Effective Date to be effective 4/12/2019.

Filed Date: 4/2/19.

Accession Number: 20190402-5153.

Comments Due: 5 p.m. ET 4/12/19.

Docket Numbers: ER19-1511-000.

Applicants: Florida Power & Light Company.

Description: § 205(d) Rate Filing: FPL and LCEC Amendments to Rate Schedule FERC No. 317 to be effective 4/1/2018.

Filed Date: 4/2/19.

Accession Number: 20190402-5197.

Comments Due: 5 p.m. ET 4/23/19.

Docket Numbers: ER19-1512-000.

Applicants: Florida Power & Light Company.

Description: § 205(d) Rate Filing: FPL and FKEC Amendments to Rate Schedule FERC No. 322 to be effective 4/1/2018.

Filed Date: 4/2/19.

Accession Number: 20190402-5198.

Comments Due: 5 p.m. ET 4/23/19.

Docket Numbers: ER19-1513-000.

Applicants: San Diego Gas & Electric Company.

Description: § 205(d) Rate Filing: Appendix XII Cycle 1 Formula Rate to be effective 6/1/2019.

Filed Date: 4/2/19.

Accession Number: 20190402-5210.

Comments Due: 5 p.m. ET 4/23/19.

Docket Numbers: ER19-1514-000.

Applicants: Alabama Power Company.

Description: Tariff Cancellation: Southern Power (Taylor County Solar Facility II-100MW) LGIA Termination Filing to be effective 4/3/2019.

Filed Date: 4/3/19.

Accession Number: 20190403-5044.

Comments Due: 5 p.m. ET 4/24/19.

Docket Numbers: ER19-1516-000.

Applicants: Pacific Gas and Electric Company.

Description: § 205(d) Rate Filing: E&P Agreement for Vistra Energy Corporation to be effective 4/4/2019.

Filed Date: 4/3/19.

Accession Number: 20190403-5097.

Comments Due: 5 p.m. ET 4/24/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 3, 2019.
Nathaniel J. Davis, Sr.,
Deputy Secretary.

[FR Doc. 2019-06972 Filed 4-8-19; 8:45 am]

BILLING CODE 6717-01-P